DEPARTMENT OF AGRICULTURE

Natural Resources Conservation Service

Task Force on Agricultural Air Quality

AGENCY: Natural Resources Conservation Service (NRCS).

ACTION: Notice of meeting.

SUMMARY: The Task Force on Agricultural Air Quality will meet for the second time in FY 2000 to discuss the relationship between agricultural production and air quality. Special emphasis will be placed on promoting a greater understanding of agriculture's impact on air quality and the role it plays in the local and national economy. The meeting is open to the public.

DATES: The meeting will convene Tuesday, February 15, 2000 at 8:30 a.m. and continue until 5:00 p.m. The meeting will resume Thursday, February 17, 2000 from 8:30 a.m. to 2:45 p.m. Written material and requests to make oral presentations should reach the Natural Resources Conservation Service on or before February 7, 2000.

ADDRESSES: The meeting will be held at the Amerisuites, 6080 Bluebonnet Boulevard, Baton Rouge, LA 70809, telephone (225) 769-4400/Fax (225) 769-7444. Written material and requests to make oral presentations should be sent to George Bluhm, University of California, Land, Air, and Water Resources, 151 Hoagland Hall, Davis, CA 95616-6827.

FOR FURTHER INFORMATION: Questions or comments should be directed to George Bluhm, Designated Federal Official, telephone (530) 752-1018, fax (530) 752-1552, email bluhm@crocker.ucdavis.edu.

SUPPLEMENTARY INFORMATION: Notice of this meeting is given under the Federal Advisory Committee Act, 5 U.S.C. App. 2. Additional information about the Task Force on Agricultural Air Quality, including any revised agendas for the November 9 and 10, 1999 meeting that may appear after this Federal Register Notice is published, may be found on the World Wide Web at http://www.nhq.nrcs.usda.gov/faca/aaqtf.html.

Draft Agenda of the February 15 And 17, 1999 Meeting

A. Welcome to Louisiana by State and local officials

B. Business, Pearlie Reed, Chief, NRCS and Chairperson, AAQTF

1. Approve minutes of the November 9 and 10, 1999 AAQTF meeting

2. Update on Agricultural Burning Policy recommendation

3. Update on Voluntary Program recommendation

C. GIS as an Emission Factor Tool, LDEQ Staff

D. Subcommittee Reports, Pearlie Reed, Chief, NRCS and Chairperson, AAQTF

1. Confined animals and emission factors subcommittee report, John Sweeten, Chairperson

2. Research priorities and oversight subcommittee report, James Trotter, Chairperson

3. Monitoring and health effects subcommittee report, Phillip Wakelyn, Chairperson

E. EPA Update, Sally Shaver, EPA

F. Set date and location for next meetings

Procedural

This meeting is open to the public. At the discretion of the Chair, members of the public may present oral presentations during the February 15 and 17, 2000 meeting. Persons wishing to make oral presentations should notify George Bluhm no later than February 7, 2000. If a person submitting material would like a copy distributed to each member of the committee in advance of the meeting, that person should submit 25 copies to George Bluhm no later than February 7, 2000.

Information on Services for Individuals With Disabilities

For information on facilities or services for individuals with disabilities or to request special assistance at the meeting, contact George Bluhm as soon as possible.

Dated: January 11, 2000.
Lawrence E. Clark,
Deputy Chief for Science and Technology, Natural Resources Conservation Service.

[FR Doc. 00-1632 Filed 1-21-00; 8:45 am]

BILLING CODE 3410-16-P